DEPARTMENT OF AGRICULTURE

Submission for OMB Review; Comment Request

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology. Comments regarding these information collections are best assured of having their full effect if received by September 28, 2020. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Regulations and Related Reporting and Recording Requirements—FTPP, Packers and Stockyards Division.

OMB Control Number: 0581-0308.

Summary of Collection: The Agricultural Marketing Service (AMS) administers the provisions of the Packers and Stockyards Act of 1921 (Act), as amended and supplemented (7 U.S.C. 181-229c). The Act is designed to protect the financial interests of livestock and poultry producers engaged in commerce of livestock and live poultry sold for slaughter. It also protects members of the livestock and poultry marketing, processing, and merchandising industries from unfair, unjustly discriminatory, deceptive, or anti-competitive practices in the livestock, meat, and poultry industries. AMS will collect information using several forms.

Need and Use of the Information: Through the forms in this information collection, the Fair-Trade Practices Program (FTPP), Packers and Stockyards Division (PSD) gathers information that keeps PSD current on the ownership and operations of regulated entities which permit PSD oversight of the regulated entities. For example, PSD gathers information regarding the number of head of livestock purchased and the cost of the livestock to determine if the entity is adequately bonded to protect the livestock sellers. The information regarding the number of livestock purchased is also consolidated for public reporting in PSD's annual report. Other financial information is gathered to determine if the regulated entities are operating while solvent as required by the P&S Act. This information collection is necessary for PSD to monitor and examine financial, competitive, and trade practices in the livestock, meat packing and poultry industries.

Description of Respondents: Business or other for-profit.

Number of Respondents: 11,320.

Frequency of Responses: Recordkeeping; Third party disclosure; Reporting: On occasion; Semi-annually; Annually.

Total Burden Hours: 49,339.

Rachelle Ragland-Greene,
Departmental Information Collection Officer.

[FR Doc. 2025-07163 Filed 4-24-25; 8:45 am]

BILLING CODE 3410-02-P